DEPARTMENT OF THE INTERIOR

Bureau of Land Management

[LLNVS00560 L58530000 EU0000 241A; 14-08807; MO#4500109372; TAS: 17X]

Notice of Realty Action: Competitive Sale of 40 Parcels of Public Land in Clark County, NV

AGENCY: Bureau of Land Management, Interior.

ACTION: Notice of Realty Action.

SUMMARY: The Bureau of Land Management (BLM) proposes to offer 40 parcels of public land totaling 754.78 acres in the Las Vegas Valley by competitive sale, sealed-bid and oral auction, at not less than the appraised fair market values (FMV) pursuant to the Southern Nevada Public Land Management Act of 1998 (SNPLMA), as amended. The proposed sale will be subject to the applicable provisions of Section 203 of the Federal Land Policy and Management Act of 1976 (FLPMA) and BLM land sale regulations. The BLM has also completed a Determination of National Environmental Policy Act Adequacy (DNA).

DATES: Interested parties may submit written comments regarding the proposed sale until January 8, 2018. The proposed sale is to occur by sealed bid and oral public auction on January 24, 2018, at 10 a.m., Pacific Time. The FMV for the parcels, the period to submit sealed-bids, and the sale date will be announced in local and online media at least 30 days prior to the sale. The BLM will start accepting sealed bids beginning on January 8, 2018. Sealed bids must be received by the BLM, Las Vegas Field Office (LVFO) by no later than 4:30 p.m. Pacific Time on January 19, 2018. The BLM will open the sealed bids on the day of the sale just prior to the oral bidding.

ADDRESSES: The proposed sale will occur at the City of Henderson Council Chambers, 240 Water Street, Henderson, Nevada 89009. Mail written comments and submit sealed bids to the BLM Las Vegas Field Office, Assistant Field Manager, 4701 North Torrey Pines Drive, Las Vegas, Nevada 89130.

FOR FURTHER INFORMATION CONTACT: Joe Fields, Realty Specialist, BLM Las Vegas Field Office at email: jfields@blm.gov, or telephone: 702-515-5194. Persons who use a telecommunications device for the deaf (TDD) may call the Federal Relay Service (FRS) at 1-800-877-8339 to contact the above individual during normal business hours. The FRS is available 24 hours a day, 7 days a week, to leave a message or question with the above individual. You will receive a reply during normal business hours. General information on previous BLM public land sales go to: https://www.blm.gov/snplma.

SUPPLEMENTARY INFORMATION: The BLM proposes to offer 40 parcels of public land within the Clark County jurisdiction. Twenty-eight of the parcels are located in the northwest part of the valley, near Highway 95 and Interstate 215. Nine parcels are located in the southwest part of the valley, south of Interstate 215 and west of Interstate 15. Two parcels are located in the northeast part of the valley, west of Interstate 15 and south of Interstate 215. One parcel is located on the north side of Interstate 215 and east of Interstate 15.

The subject public lands are legally described as:

Mount Diablo Meridian, Nevada

N-95251, 10.00 acres:

T. 19 S., R. 60 E.,

Sec. 31, NW¼NW¼NE¼.

N-95252, 10.00 acres

T. 19 S., R. 60 E.,

Sec. 31, SW¼NW¼NE¼.

N-95253, 10.00 acres

T. 19 S., R. 60 E.,

Sec. 31, SE¼NW¼NE¼.

N-95254, 10.00 acres:

T. 19 S., R. 60 E.,

Sec. 31, SW¼NE¼NE¼.

N-95255, 10.00 acres:

T. 19 S., R. 60 E.,

Sec. 31, NW¼NE¼NE¼.

N-95256, 10.00 acres:

T. 19 S., R. 60 E.,

Sec. 31, NE¼NE¼NE¼.

N-95257, 5.00 acres:

T. 19 S., R. 60 E.,

Sec. 31, W½SE¼NE¼NE¼.

N-93589, 10.00 acres:

T. 19 S., R. 60 E.,

Sec. 31, NW¼NE¼SE¼.

N-93590, 10.00 acres:

T. 19 S., R. 60 E.,

Sec. 32, NE¼NE¼NW¼.

N-95260, 10.00 acres:

T. 19 S., R. 60 E.,

Sec. 32, NW¼NE¼NW¼.

N-95261, 10.00 acres:

T. 19 S., R. 60 E.,

Sec. 32, SW¼NE¼NW¼.

N-95263, 5.00 acres:

T. 19 S., R. 59 E.,

Sec. 25, W½SW¼NE¼SE¼.

N-95264, 5.00 acres:

T. 19 S., R. 59 E.,

Sec. 25, W½NW¼SE¼SE¼.

N-95265, 5.00 acres:

T. 19 S., R. 59 E.,

Sec. 25, W½SW¼SE¼SE¼.

N-79508, 27.50 acres:

T. 20 S., R. 60 E.,

Sec. 6, W½NW¼NW¼SE¼, W½SW¼NW¼SE¼, SE¼NE¼SW¼, W½NE¼SE¼SW¼, and SE¼NW¼SE¼SW¼.

N-95267, 20.00 acres:

T. 20 S., R. 60 E.,

Sec. 6, W½NE¼NE¼SE¼, SE¼NE¼SE¼, and W½NE¼SE¼SE¼.

N-95268, 3.75 acres:

T. 22 S., R. 60 E.,

Sec. 13, SE¼SE¼NW¼SW¼, and E½SW¼SE¼NW¼SW¼.

N-95269, 2.50 acres:

T. 22 S., R. 60 E.,

Sec. 23, N½NE¼NW¼SE¼NW¼, and N½NW¼NW¼SE¼NW¼.

N-95270, 15.00 acres:

T. 22 S., R. 60 E.,

Sec. 30, SE¼SE¼NE¼, and E½SW¼SE¼NE¼.

N-95271, 23.75 acres:

T. 22 S., R. 60 E.,

Sec. 30, W½SW¼SE¼NE¼, S½NE¼NE¼SW¼NE¼, S½NW¼NE¼SW¼NE¼, S½NE¼SW¼NE¼, N½SE¼SW¼NE¼, SW¼SE¼SW¼NE¼, SE¼NW¼SW¼NE¼, and E½NE¼SW¼SW¼NE¼.

N-95272, 5.00 acres:

T. 22 S., R. 61 E.,

Sec. 24, S½SE¼NW¼NW¼.

N-92858, 1.25 acres:

T. 22 S., R. 61 E.,

Sec. 30, E½NE¼NE¼NE¼NE¼.

N-95274, 2.50 acres:

T. 22 S., R. 61 E.,

Sec. 30, SW¼NW¼NW¼SE¼.

N-92861, 2.50 acres:

T. 22 S., R. 61 E.,

Sec. 30, SW¼NE¼NW¼SE¼.

N-94212, 2.50 acres:

T. 22 S., R. 61 E.,

Sec. 30, SW¼SE¼NW¼SE¼.

N-95277, 5.00 acres:

T. 23 S., R. 61 E.,

Sec. 5, N½SE¼SW¼NE¼.

N-93587, 10.00 acres:

T. 19 S., R. 60 E.,

Sec. 31, SW¼SW¼NE¼.

N-91842, 17.50 acres:

T. 20 S., R. 60 E.,

Sec. 6, NW¼SW¼SE¼, W½NE¼SW¼SE¼, and NE¼NE¼SW¼SE¼.

N-95279, 120.00 acres:

T. 19 S., R. 59 E.,

Sec. 36, E½SE¼NE¼NW¼, W½NE¼NW¼NE¼, SW¼NW¼NE¼, E¼NW¼NE¼, W½NW¼NE¼NE¼, E½NE¼NE¼NE¼, W½SW¼NE¼NE¼,E½ SE¼NE¼NE¼, NW¼SW¼NE¼, NE¼SW¼NE¼, SE¼SW¼NE¼, and SE¼NE¼.

N-95280, 10.00 acres:

T. 19 S., R. 59 E.,

Sec. 25, NE¼SE¼SW¼.

N-95281, 40.00 acres:

T. 19 S., R. 60 E.,

Sec. 31, NE¼NW¼SW¼, N½NE¼SW¼, E½SE¼NE¼SW¼, and E½SW¼NE¼SW¼.

N-95282, 5.00 acres:

T. 20 S., R. 60 E.,

Sec. 28, E½NW¼SW¼SE¼.

N-95283, 10.00 acres:

T. 20 S., R. 60 E.,

Sec. 28, NE¼SW¼SE¼.

N-95284, 5.00 acres:

T. 19 S., R. 59 E.,

Sec. 1, W½NW¼SW¼SW¼.

N-84158, 5.00 acres:

T. 19 S., R. 59 E.,

Sec. 1, E½SE¼SW¼SE¼.

N-95286, 5.00 acres:

T.19 S., R. 59 E.,

Sec. 1, E½SE¼SE¼SE¼.

N-95287, 5.00 acres:

T. 19 S., R. 59 E.,

Sec. 25, W½SW¼SW¼SW¼.

N-95288, 5.00 acres:

T. 19 S., R. 59 E.,

Sec. 36, W½NW¼NW¼NW¼.

N-95289, 188.88 acres:

T. 19 S., R 61 E.,

Sec. 24, lots 5, 6, 10, 13, 14, 15, 16, and 17 and that portion of lots 3 and 4 lying south of the southerly right-of-way line of BLM Grant N-61323.

N-95290, 97.16 acres:

T. 19 S., R. 62 E.,

Sec. 20, that portion of the N½ lying south of the southerly right-of-way line of BLM Grant N-61323.

The areas described contains 754.78 acres in Clark County.

A sales matrix is available on the BLM Web site at: https://www.blm.gov/snplma. The sales matrix provides information specific to each sale parcel, such as the legal description, physical location, encumbrances, acreage, and FMV. The FMV for each parcel will be available in the sales matrix as soon as approved by the BLM and no later than 30 days prior to the sale.

This proposed competitive sale is in conformance with the BLM Las Vegas Resource Management Plan (RMP) and the decision LD-1, approved by the Record of Decision (ROD) on October 5, 1998, and complies with Section 203 of FLPMA. The proposed sale parcels were analyzed in the Las Vegas Valley Disposal Boundary Environmental Impact Statement (EIS) and ROD issued on December 23, 2004. A parcel-specific DNA, document number DOI-BLM-NV-S010-2017-0092-DNA, was prepared in connection with this Notice of Realty Action.

Submit comments on this sale notice to the address in the ADDRESSES section. Before including your address, phone number, email address, or other personal identifying information in your comment, you should be aware that your entire comment—including any personal identifying information—may be made publicly available at any time. While you can ask us in your comment to withhold your personal identifying information from public review, we cannot guarantee that we will be able to do so. The BLM will also publish this Notice once a week for three consecutive weeks in the Las Vegas Review-Journal.

Sale procedures: Registration for oral bidding will begin at 8 a.m. Pacific Time and will end at 10 a.m. Pacific Time at the City of Henderson Council Chambers, 240 Water Street, Henderson, Nevada 89009, on the day of the sale, January 24, 2018. There will be no prior registration before the sale date. To participate in the competitive sale, all registered bidders must submit a bid guarantee deposit in the amount of $10,000 by certified check, postal money order, bank draft, or cashier's check made payable to the Department of the Interior—Bureau of Land Management on the day of the sale or submit the bid guarantee deposit along with the sealed bids. The sale will be conducted using both sealed and oral bids. In order to determine the high bids among the qualified bids received, sealed bids will be opened and recorded on the day of the sale. Sealed bids above the FMV will set the starting point for oral bidding on a parcel. Parcels that receive no qualified sealed bids will begin at the established FMV. Bidders who participate in and attend the oral auction on the day of the sale are not required to submit a sealed bid, but may choose to do so.

Sealed-bid envelopes must be clearly marked on the lower front left corner with the parcel number and name of the sale, for example: “N-XXXXX, 40-parcel SNPLMA Winter Sale 2018.” If multiple sealed bids are submitted, only the envelope that contains the bid guarantee needs to be noted with “bid guarantee.” Sealed bids must include an amount not less than 20 percent of the total bid amount and the $10,000 bid guarantee noted above by certified check, postal money order, bank draft, or cashier's check made payable to the “Department of the Interior—Bureau of Land Management.” The bid guarantee and bid deposit may be combined into one form of deposit; the bidder must specify the amounts of the bid deposit and the bid guarantee. If multiple bids are received, the first sealed bid of the group must include the $10,000 bid guarantee with the same bidder name. The BLM will not accept personal or company checks. The sealed bid envelope must contain the 20 percent bid deposit, bid guarantee, and a completed and signed “Certificate of Eligibility” form stating the name, mailing address, and telephone number of the entity or person submitting the bid. Certificate of Eligibility and registration forms are available at the BLM LVFO at the address listed in the ADDRESSES section and on the BLM Web site at: https://www.blm.gov/nv/st/en/snplma/Land_Auctions.html. Pursuant to 43 CFR 2711.3-1(c), if two or more sealed bid envelopes containing valid bids of the same amount are received, oral bidding will start at the sealed bid amount. If there are no oral bids on the parcel, the authorized officer will determine the winning bidder. Bids for less than the federally approved FMV will not be qualified. The highest qualifying bid for any parcel will be declared the high bid. The apparent high bidder must submit a deposit of not less than 20 percent of the successful bid by 3 p.m. Pacific Time on the day of the sale in the form of a certified check, postal money order, bank draft, or cashier's check made payable in U.S. dollars to the “Department of the Interior—Bureau of Land Management.” Funds must be delivered by no later than 3 p.m. Pacific Time on the day of the sale to the BLM Collection Officers at the City of Henderson Council Chambers, 240 Water Street, Henderson, Nevada 89009. Funds will not be accepted at the BLM-Las Vegas Field Office location. The BLM will send the successful bidder(s) a high-bidder letter with detailed information for full payment.

All funds submitted with unsuccessful bids will be returned to the bidders or their authorized representative upon presentation of acceptable photo identification at the BLM Las Vegas Field Office or by certified mail. The apparent high bidder may choose to apply the bid guarantee toward the required deposit. Failure to submit the deposit following the close of the sale under 43 CFR 2711.3-1(d) will result in forfeiture of the bid guarantee. If the successful bidder offers to purchase more than one parcel and fails to submit the 20 percent bid deposit resulting in default on any single parcel following the sale, the BLM will retain the $10,000 bid guarantee, and may cancel the sale of all the parcels to that bidder. If a high bidder is unable to consummate the transaction for any reason, the BLM may offer the parcel to the second highest bidder. If there are no acceptable bids, a parcel may remain available for sale at a future date in accordance with competitive sale procedures without further legal notice.

Federal law requires that bidders must be: (1) A citizen of the United States who are 18 years of age or older; (2) A corporation subject to the laws of any State or of the United States; (3) A State, State instrumentality, or political subdivision authorized to hold property; or (4) An entity legally capable of conveying and holding lands or interests therein under the laws of the State of Nevada.

Evidence of United States citizenship is a birth certificate, passport, or naturalization papers. Failure to submit the above documents to the BLM within 30 days from receipt of the high-bidder letter will result in cancellation of the sale and forfeiture of the bid deposit. Citizenship documents and Articles of Incorporation (as applicable) must be provided to the BLM Las Vegas Field Office for each sale. The successful bidder is allowed 180 days from the date of the sale to submit the remainder of the full purchase price.

According to SNPLMA, as amended, section 4 (c) of Public Law 105-263, lands identified within the Las Vegas Valley Disposal Boundary are withdrawn from location and entry under the mining laws, and from operation under the mineral leasing and geothermal leasing laws until such times as the Secretary terminates the withdrawal or the lands are patented. Any subsequent applications will not be accepted, will not be considered as filed, and will be returned to the applicant. The segregative effect of this Notice terminates upon issuances of a patent or other document of conveyance to such lands, publication in the Federal Register of a termination of the segregative effect, or two years after the date of this publication, whichever occurs first. The segregation period may not exceed two years unless extended by the BLM State Director, Nevada, in accordance with 43 CFR 2711.1-2(d) prior to the termination date.

Terms and Conditions: All minerals for the sale parcels will be reserved to the United States. The patents, when issued, will contain a mineral reservation to the United States for all minerals. To clarify a mineral reservation as it relates to mineral materials, such as sand and gravel, interested parties may refer to 43 CFR 3601.71(b). The regulation provides that the owner of the surface estate of lands with reserved Federal minerals may “use a minimal amount of mineral materials for . . . personal use” within the boundaries of the surface estate without a sales contract or permit. Further, the regulation provides that all other use, absent statutory or other express authority, requires a sales contract or permit. We refer interested parties to the explanation of this regulatory language in the preamble to the final rule published in the Federal Register on November 23, 2001, (66 FR 58891), which stated that minimal use “would not include large-scale use of mineral materials, even within the boundaries of the surface estate.” Further explanation is contained in BLM Instruction Memorandum No. 2014- 085 (April 23, 2014), available on BLM's Web site at https://www.blm.gov/policy/woim-2014-085.

The parcels are subject to limitations prescribed by law and regulation, and certain encumbrances in favor of third parties. Prior to patent issuance, a holder of any right-of-way (ROW) within the sale parcels will have the opportunity to amend the ROW for conversion to a new term, including perpetuity, if applicable, or conversion to an easement. The BLM will notify valid existing ROW holders of record of their ability to convert their compliant ROWs to perpetual ROWs or easements. In accordance with Federal regulations at 43 CFR 2807.15, once notified, each valid holder may apply for the conversion of their current authorization.

The following terms and conditions will appear on the conveyance documents for the sale parcels:

1. All minerals deposits in the lands so patented, and to it, or persons authorized by it, the right to prospect for, mine, and remove such deposits from the same under applicable law and regulations to be established by the Secretary of the Interior are reserved to the United States, together with all necessary access and exit rights;

2. A right-of-way is reserved for ditches and canals constructed by authority of the United States under the Act of August 30, 1890 (43 U.S.C. 945);

3. The parcels are subject to valid existing rights;

4. The parcels are subject to reservations for road, public utilities and flood control purposes, both existing and proposed, in accordance with the local governing entities' transportation plans; and

5. An appropriate indemnification clause protecting the United States from claims arising out of the lessees/patentee's use, occupancy, or occupations on the leased/patented lands.

Pursuant to the requirements established by Section 120(h) of the Comprehensive Environmental Response, Compensation and Liability Act, 42 U.S.C. 9620(h) (CERCLA), as amended, notice is hereby given that the lands have been examined and no evidence was found to indicate that any hazardous substances have been stored for one year or more, nor had any hazardous substances been disposed of or released on the subject property.

No warranty of any kind, express or implied, is given by the United States as to the title, whether or to what extent the land may be developed, its physical condition, future uses, or any other circumstance or condition. The conveyance of a parcel will not be on a contingency basis. However, to the extent required by law, the parcel is subject to the requirements of Section 120(h) of the CERCLA.

Designation of the escrow agent will be through mutual agreement between the BLM and the prospective patentee, and any costs associated with escrow will be borne by the prospective patentee, unless the BLM authorized officer approves other satisfactory arrangements in advance.

The BLM Las Vegas Field Office must receive the request for escrow instructions prior to 30 days before the prospective patentee has scheduled closing date. There are no exceptions.

All name changes and supporting documentation must be received at the BLM Las Vegas Field Office 30 days from the date on the high-bidder letter by 4:30 p.m. Pacific Time. There are no exceptions. To submit a name change, the apparent high bidder must submit the name change in writing on the Certificate of Eligibility form to the BLM Las Vegas Field Office.

The remainder of the full bid price for the parcel must be received no later than 4:30 p.m. Pacific Time, within 180 days following the day of the sale. Payment must be submitted in the form of a certified check, postal money order, bank draft, cashier's check, or made available by electronic fund transfer made payable in U.S. dollars to the “Department of the Interior—Bureau of Land Management” to the BLM Las Vegas Field Office. The BLM will not accept personal or company checks.

Arrangements for electronic fund transfer to the BLM for payment of the balance due must be made a minimum of two weeks prior to the payment date. Failure to pay the full bid price within 180 days of the sale date will disqualify the high bidder and forfeit the entire 20 percent bid deposit to the BLM. Forfeiture of the 20 percent bid deposit is in accordance with 43 CFR 2711.3-1(d). No exceptions will be made. The BLM must receive the balance of the full bid price within 180 days after the sale date.

The BLM will not sign any documents related to 1031 Exchange transactions. The timing for completion of such an exchange is the bidder's responsibility. The BLM cannot be a party to any 1031 Exchange.

In accordance with 43 CFR 2711.3-1(f), within 30 days the BLM may accept or reject any or all offers to purchase, or withdraw any parcel of land or interest therein from sale if the BLM authorized officer determines consummation of the sale would be inconsistent with any law, or for other reasons as may be provided by applicable law or regulations. No contractual or other rights against the United States may accrue until the BLM officially accepts the offer to purchase and the full bid price is paid.

Upon publication of this Notice and until completion of this sale, the BLM will no longer accept land use applications affecting the parcel identified for sale. The parcel may be subject to land use applications received prior to publication of this Notice if processing the application would have no adverse effect on the marketability of title, or the FMV of the parcel. Information concerning the sale, encumbrances of record, appraisals, reservations, procedures and conditions, CERCLA, and other environmental documents that may appear in the BLM public files for the sale parcels, are available for review during business hours, 8 a.m. to 4:30 p.m. Pacific Time, Monday through Friday, at the BLM Las Vegas Field Office, except during Federal holidays.

In order to determine the FMV through appraisal, certain extraordinary assumptions and hypothetical conditions may have been made concerning the attributes and limitations of the lands and potential effects of local regulations and policies on potential future land uses. Through publication of this Notice, the BLM advises that these assumptions may not be endorsed or approved by units of local government.

It is the buyer's responsibility to be aware of all applicable Federal, State, and local government laws, regulations, and policies that may affect the subject lands, including any required dedication of lands for public uses. It is the buyer's responsibility to be aware of existing or prospective uses of nearby properties. When conveyed out of Federal ownership, the lands will be subject to any applicable laws, regulations, and policies of the applicable local government for proposed future uses. It is the responsibility of the buyer to be aware through due diligence of those laws, regulations, and policies, and to seek any required local approvals for future uses. Buyers should make themselves aware of any Federal or State law or regulation that may affect the future use of the property. Any land lacking access from a public road or highway will be conveyed as such, and future access acquisition will be the responsibility of the buyer. The BLM Nevada State Director or other authorized official of the Department of the Interior, who may sustain, vacate, or modify this realty action in response to such comments, will review any comments regarding the sale.

In the absence of any comments, this realty action will become the final determination of the Department of the Interior.

Authority: 43 CFR 2711.1-2

Vanessa L. Hice,
Assistant Field Manager, Division of Lands.

[FR Doc. 2017-25264 Filed 11-21-17; 8:45 am]

BILLING CODE 4310-HC-P